DEPARTMENT OF TRANSPORTATION

Coast Guard

33 CFR Part 117

[CGD08-00-027]

Drawbridge Operating Regulation; Sabine Lake, Texas

AGENCY: Coast Guard, DOT.

ACTION: Notice of temporary deviation from regulations.

SUMMARY: The Commander, Eighth Coast Guard District has issued a temporary deviation from the regulation in 33 CFR 117.979 governing the operation of the State Route 82, swing span bridge across Sabine Lake, mile 10.0 at Port Arthur, Texas. This deviation allows the State of Texas, Department of Transportation to close the bridge to navigation from 7 a.m. on December 1, 2000 through 5 p.m. on December 15, 2000. Presently, the draw is required to open on signal except that from 9 p.m. to 5 a.m., the draw shall open on signal if at least six hours notice is given to the Maintenance Construction Supervisor or the Maintenance Foreman at Port Arthur. This temporary deviation is issued to allow for replacement of the operator house and to perform electrical and mechanical maintenance.

DATES: This deviation is effective from 7 a.m. on December 1, 2000 through 5 p.m. on December 15, 2000.

ADDRESSES: Unless otherwise indicated, documents referred to in this notice are available for inspection or copying at the office of the Eighth Coast Guard District, Bridge Administration Branch, Commander (ob), 501 Magazine Street, New Orleans, Louisiana, 70130-3396. The Bridge Administration Branch maintains the public docket for this temporary deviation.

FOR FURTHER INFORMATION CONTACT: Phil Johnson, Bridge Administration Branch, telephone (504) 589-2965.

SUPPLEMENTARY INFORMATION: The State Route 82, swing span bridge across Sabine Lake, mile 10.2, near Port Arthur, Texas, has a vertical clearance of 9 feet above high water in the closed-to-navigation position and unlimited clearance in the open-to-navigation position. Navigation on the waterway consists primarily of fishing vessels, and recreational craft, although the bridge is occasionally transited by small tugs with tows, transporting sand, gravel and marine shells. The State of Texas, Department of Transportation requested a temporary deviation from the normal operation of the drawbridge in order to accommodate the maintenance work, involving construction of a new operator house and replacement of the submarine power supply cable and other electrical and mechanical repairs. This maintenance is necessary for the continued operation of the bridge. An alternate route via the Gulf Intracoastal Waterway is available.

This deviation allows the draw of the State Route 82 Bridge swing span drawbridge across Sabine Lake, mile 10.0, to remain closed to navigation from 7 a.m. on December 1, 2000 through 5 p.m. on December 15, 2000.

Dated: November 14, 2000.
Paul J. Pluta,
Rear Admiral, U.S. Coast Guard, Commander, Eighth Coast Guard District.

[FR Doc. 00-30392 Filed 11-28-00; 8:45 am]

BILLING CODE 4910-15-U